DEPARTMENT OF HEALTH AND HUMAN SERVICES

Administration for Children and Families

Senior Executive Service; Performance Review Board Members

AGENCY: Administration for Children and Families.

ACTION: Announcing appointment of Performance Review Board members.

SUMMARY: 5 U.S.C. 4314(c)(4) of the Civil Service Reform Act of 1978, Pub. L. 95-454, requires that the appointment of Performance Review Board members be published in the Federal Register.

The following persons will serve on the Performance Review Boards or Panels which oversee the evaluation of performance appraisals of Senior Executive Service members of the Department of Health and Human Services, Administration for Children and Families: Diann Dawson, Leon R. McCowan, Madeline Mocko.

Dated: March 29, 2000.
Elizabeth M. James Duke,
Deputy Assistant Director for Administration, Office of Administration.

[FR Doc. 00-8413 Filed 4-5-00; 8:45 am]

BILLING CODE 4184-01-M